SMALL BUSINESS ADMINISTRATION

[Declaration of Economic Injury Disaster #9N84]

State of Wyoming; Disaster Loan Area

Park County and the contiguous Counties of Big Horn, Fremont, Hot Springs, Teton and Washakie in the State of Wyoming; and Carbon, Gallatin and Park Counties in the State of Montana constitute an economic injury disaster loan area as a result of a forest fire that closed the east entrance to Yellowstone National Park from July 29 through August 13, 2001. Eligible small businesses and small agricultural cooperatives without credit available elsewhere may file applications for economic injury assistance as a result of this disaster until the close of business on September 17, 2002 at the address listed below or other locally announced locations:

U.S. Small Business Administration, Disaster Area 3 Office, 4400 Amon Carter Blvd., Suite 102, FT. Worth, TX 76155.

The interest rate for eligible small businesses and small agricultural cooperatives is 4 percent. The number assigned for economic injury for this disaster is 9N8400 for the State of Wyoming and 9N8500 for the State of Montana.

(Catalog of Federal Domestic Assistance Program No. 59002)
Dated: December 17, 2001.
Hector V. Barreto,
Administrator.

[FR Doc. 01-31648 Filed 12-21-01; 8:45 am]

BILLING CODE 8025-01-P